DEPARTMENT OF AGRICULTURE

Submission for OMB Review; Comment Request

November 9, 2010.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal Plant & Health Inspection Service

Title: Swine Health.

OMB Control Number: 0579-0137.

Summary of Collection: Under the Animal Health Protection Act (7 U.S.C. 8301 et seq.) the Animal and Plant Health Inspection Service (APHIS) of the U.S. Department of Agriculture is authorized, among other things to prohibit or restrict the interstate movement of animals and animal products to prevent the dissemination within the United States of animal diseases and pests of livestock and to conduct programs to detect, control and eradicate pests and diseases of livestock. The regulations in 9 CFR part 71 contain requirements for the interstate movement of swine within a production system to prevent the spread of swine diseases and part 85 regulations regulates the interstate movement of swine to prevent the spread of the pseudorabies (PRV) virus. APHIS will collect information using several APHIS forms.

Need and Use of the Information: APHIS will collect information on the number of swine being moved in a particular shipment, the shipment's point of origin, the shipment's destination, and the reason for the interstate movement. The documents used to gather the necessary information include: (1) The Permit of Move Restricted Animals (VS Form 1-27), (2) the certificate of veterinary inspection, (3) an owner-shipper statement, (4) the accredited veterinarian's statement concerning embryos for implantation and semen shipments, (5) a swine production system health plan, (6) an interstate movement report and notification, and (7) the completion and recordkeeping of a Quarterly Report of Pseudorabies Control Eradication Activities (VS Form 7-1). The documents provide APHIS with critical information concerning a shipment's history, which in turn enables APHIS to engage in swift, successful trackback investigation when infected swine are discovered. PRV is further controlled through depopulation and indemnity using an Appraisal and Indemnity Claim Form (VS Form 1-23), herd management plan, movement permit and report of net salvage proceeds.

Description of Respondents: Business or other for-profit; State, Local or Tribal Government .

Number of Respondents: 7,670.

Frequency of Responses: Recordkeeping; Reporting: On occasion.

Total Burden Hours: 29,840.

Animal and Plant Health Inspection Service

Title: Interstate Movement of Certain Tortoises.

OMB Control Number: 0579-0156.

Summary of Collection: The Animal Health Protection Act (AHPA) of 2002 is the primary Federal law governing the protection of animal health. The law gives the Secretary of Agriculture broad authority to prevent, control, and eliminate domestic diseases such as tuberculosis, as well as to take actions to prevent and to manage exotic diseases such as heartwater disease. The regulations in 9 CFR part 93 prohibit the importation of the leopard tortoise, the African spurred tortoise, and the Bell's hingeback tortoise to prevent the introduction and spread of exotic ticks known to be vectors of heartwater disease, an acute, infectious disease of cattle and other ruminants. The regulations in 9 CFR part 74 prohibit the interstate movement of those tortoises that are already in the United States unless the tortoises are accompanied by a health certificate or certificate of veterinary inspection.

Need and Use of the Information: APHIS will collect information to ensure that the interstate movement of these leopard, African spurred, and Bell's hingeback tortoises poses no risk of spreading exotic ticks within the United States. Owners and veterinarians are required to provide the following information to Federal or accredited veterinarians for completion of the health certificate: Name, address, and telephone number of the owner; information identifying the animal such as collar or tattoo number; breed; age; sex; color; distinctive marks; vaccination history; and certifications from both the owner and the veterinarian that all information is true and accurate. The collected information is used for the purposes of identifying each specific tortoise and documenting the State of its health so that the animals can be transported across State and national boundaries. If the information is not collected APHIS would be forced to continue their complete ban on the interstate movement of leopard, African spurred, and Bell's hingeback tortoises, a situation that could prove economically disastrous for a number of U.S. tortoises breeders.

Description of Respondents: Individuals or households; Business or other for-profit.

Number of Respondents: 50.

Frequency of Responses: Reporting: On occasion.

Total Burden Hours: 1,000.

Animal and Plant Health Inspection Service

Title: Sheep 2011 Study.

OMB Control Number: 0579-0188.

Summary of Collection: The Department of Agriculture is responsible for protecting the health of our Nation's livestock and poultry populations by preventing the introduction and interstate spread of contagious, infectious, or communicable diseases of livestock and poultry and for eradicating such diseases from the United States when feasible. In connection with this mission, the Animal and Plant Health Inspection Service (APHIS) operates the National Health Monitoring System (NAHMS), which collects, on a national basis, statistically valid and scientifically sound data on the prevalence and economic importance of livestock and poultry diseases. NAHMS will conduct the second national data collection for sheep through a national study, Sheep 2011. The study will take place in 22 States, which represents 88.8 percent of the U.S. sheep population. Collection and dissemination of animal and poultry health information is mandated by 7 U.S.C. 8301, The Animal Health Protection Act of 2002.

Need and Use of the Information: APHIS will collect information using several forms. APHIS will use the data collected to: (1) Describe trends in sheep health and management practices from 1996 to 2011, (2) describe management and biosecurity practices used to control common infectious diseases, including scrapie, ovine progressive pneumonia, Johne's disease, and caseous lymphadenitis, (3) estimate the prevalence of gastrointestinal parasites and anthelmintic resistance, and other diseases in domestic sheep flocks, (4) facilitate the collection of information and samples regarding causes of abortion storms in sheep, (5) determine producer awareness of the zoonotic potential of contagious ecthyma and the management practices used to prevent transmission of the disease, and (6) provide serum to include in the seriological bank for future research. Without the data, the U.S.' ability to detect trends in management, production, and health status that increase/decrease farm economy, either directly or indirectly, would be reduced or nonexistent.

Description of Respondents: Business or other for-profit.

Number of Respondents: 5,500.

Frequency of Responses: Reporting: Other (one time).

Total Burden Hours: 9,356.

Animal and Plant Health Inspection Service

Title: Citrus Canker; Interstate Movement of Regulated Nursery Stock and Fruit from Quarantined Areas.

OMB Control Number: 0579-0317.

Summary of Collection: Under the Plant Protection Act (7 U.S.C. 7701 et seq.) the Secretary of Agriculture, either independently or in cooperation with the States, is authorized to carry out operations or measures to detect, eradicate, suppress, control, prevent, or retard the spread of plant pests (such as citrus canker) new to or widely distributed throughout the United States. The Animal and Plant Health Inspection Service (APHIS) has regulations in place to prevent the interstate spread of citrus canker. These regulations, contained in 7 CFR 301.75-1 through 301.75-17, restrict the interstate movement of regulated articles from and through areas quarantined because of citrus canker. APHIS amended the citrus canker quarantine regulations to prohibit the interstate movement of regulated nursery stock from a quarantined area. The interstate movement of nursery stock from an area quarantined for citrus canker poses an extremely high risk of spreading citrus canker outside the quarantined area.

Need and Use of the Information: APHIS will collect information through cooperative agreements, certificates and limited permits. Failure to collect this information could cause a severe economic loss to the citrus industry.

Description of Respondents: Business or other for-profit.

Number of Respondents: 338.

Frequency of Responses: Reporting: On occasion.

Total Burden Hours: 875.

Ruth Brown,
Departmental Information Collection Clearance Officer.

[FR Doc. 2010-28827 Filed 11-15-10; 8:45 am]

BILLING CODE 3410-34-P